ENVIRONMENTAL PROTECTION AGENCY

40 CFR Parts 9, 141 and 142

[WH-FRL-6958-3]

RIN 2040-AB75

National Primary Drinking Water Regulations; Arsenic and Clarifications to Compliance and New Source Contaminants Monitoring: Delay of Effective Date

AGENCY: Environmental Protection Agency (EPA).

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled National Primary Drinking Water Regulations; Arsenic and Clarifications to Compliance and New Source Contaminants Monitoring, published in the Federal Register on January 22, 2001, 66 FR 6976. That rule establishes a health-based, non-enforceable Maximum Contaminant Level Goal for arsenic of zero and an enforceable Maximum Contaminant Level for arsenic of 0.01 mg/L (10 ug/L) for public water systems. In addition, it clarifies monitoring and demonstration of compliance for new systems or sources of drinking water. It also clarifies compliance for State-determined monitoring after exceedances for inorganic, volatile organic, and synthetic organic contaminants. Finally, it recognizes the State-specified time period and sampling frequency for new public water systems and systems using a new source of water to demonstrate compliance with drinking water regulations.

DATES: The effective date of the National Primary Drinking Water Regulations; Arsenic and Clarifications to Compliance and New Source Contaminants Monitoring, amending 40 CFR Parts 9, 141 and 142, published in the Federal Register on Monday, January 22, 2001, at 66 FR 6976, is delayed for 60 days, from the originally scheduled effective date of March 23, 2001, to a new effective date of May 22, 2001, except for the amendments to §§ 141.23(i)(1), 141.23(i)(2), 141.24(f)(15), 141.24(h)(11), 141.24(h)(20), 142.16(e), 142.16(j), and 142.16(k) which are effective January 22, 2004. The amendment to § 141.6 in this rule is also effective May 22, 2001.

FOR FURTHER INFORMATION CONTACT: For information on today's action, contact Cynthia Dougherty, Director, Office of Ground Water and Drinking Water (4601), U.S. Environmental Protection Agency, 1200 Pennsylvania Avenue, NW., Washington, DC 20460, phone: (202) 260-5543.

SUPPLEMENTARY INFORMATION: To the extent that 5 U.S.C. 553 applies to this action, it is exempt from notice and comment because it constitutes a rule of procedure under 5 U.S.C. 553(b)(A). Alternatively, the Agency's implementation of this action without opportunity for public comment, effective immediately upon publication today in the Federal Register, is based on the good cause exceptions in 5 U.S.C. 553(b)(B) and 553(d)(3). Seeking public comment is impracticable, unnecessary and contrary to the public interest. The temporary 60-day delay in effective date is necessary to give Agency officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule immediately effective upon publication.

List of Subjects in 40 CFR Part 141

Environmental protection, Chemicals, Indian lands, Intergovernmental relations, Radiation protection, Reporting and recordkeeping requirements, Water supply.

Dated: March 20, 2001.
Christine Todd Whitman,
Administrator.

For the reasons stated in the preamble, the Environmental Protection Agency amends 40 CFR part 141 as follows:

PART 141—NATIONAL PRIMARY DRINKING WATER REGULATIONS

1. The authority citation for part 141 continues to read as follows:

Authority: 42 U.S.C. 300f, 300g-1, 300g-2, 300g-3, 300g-4, 300g-5, 300g-6, 300j-4, 300j-9, and 300j-11.

Subpart A—[Amended]

2. Paragraph (j) of 40 CFR 141.6 as published at 66 FR 7061 on January 22, 2001, is amended by revising the last sentence to read as follows:

§ 141.6 Effective dates.

* * * * *

(j) * * * However, the consumer confidence rule reporting requirements relating to arsenic listed in § 141.154(b) and (f) are effective for the purpose of compliance on May 22, 2001.

* * * * *

[FR Doc. 01-7264 Filed 3-22-01; 8:45 am]

BILLING CODE 6560-50-U